GENERAL SERVICES ADMINISTRATION

Governmentwide Per Diem Advisory Board

AGENCY: Office of Governmentwide Policy, GSA.

ACTION: Notice of meeting.

SUMMARY: Notice is hereby given that the Governmentwide Per Diem Advisory Board will hold an open meeting from 8:30 a.m. to 4 p.m. on Thursday, October 17, 2002. The meeting will be held at The Crystal City Marriott, 1999 Jefferson Davis Highway, Arlington, VA 22202. This meeting is open to the public. Members of the public who wish to file a written statement with the Board may also be permitted 5 minutes for summary oral presentations at this meeting, assuming GSA receives a written copy c/o Rob Miller, Designated Federal Officer (MTT), General Services Administration, 1800 F St., NW Room 1221B, Washington, DC 20405, or via email at robl.miller@gsa.gov of any such oral presentation not later than 5 p.m. (ET) October 11, 2002.

Purpose: To review the current process and methodology that is used by GSA's Office of Governmentwide Policy to determine the per diem rates for destinations within the continental United States (CONUS), and to provide advice on best practices for a Federal lodging program. The Board will receive preliminary recommendations for improving the per diem process, and identifying best practices for a Governmentwide lodging program.

For security and building access: (1) ADA accessible facility; (2) public seating may be limited.

FOR FURTHER INFORMATION CONTACT: Rob Miller (202) 501-4621, Designated Federal Officer, or Joddy Garner (202) 501-4857, Per Diem Program Manager, General Services Administration. Also, inquiries may be sent to robl.miller@gsa.gov.

Dated: September 27, 2002.
Becky Rhodes,
Deputy Associate Administrator, Office of Transportation and Personal Property.

[FR Doc. 02-25240 Filed 10-3-02; 8:45 am]

BILLING CODE 6820-14-M